Title 3—

The President

Proclamation 9284 of May 18, 2015

50th Anniversary of Head Start

By the President of the United States of America

A Proclamation

Supporting our children in their earliest years with high-quality care and education is one of the best investments we can make as a Nation—and for 50 years, Head Start has helped to lift up millions of America's children and their families in communities across our country. The oldest and largest Federal program to deliver high-quality early learning opportunities to low-income children, Head Start was founded on the idea that every child—no matter who they are, what they look like, or where they grow up—deserves the chance to reach their full potential. Since 1965, it has given meaning to the simple truth that in America, where you start should not determine how far you can go.

In the last half-century, Head Start has served 32 million children, supporting them in every aspect of their development—from early learning and health and nutrition to social and emotional well-being. Designed to cultivate original ideas and innovative approaches to preparing children for success later in school and in life, Head Start has pioneered new solutions to fight the harmful effects of poverty and build ladders of opportunity into the middle class. In small towns and large cities—in America's immigrant communities and with migrant and seasonal families, faith-based communities, and tribal leaders—Head Start programs and providers empower children and their families to foster positive parent-child relationships, to reach for economic and family stability, and to make important connections to their peers and their communities.

During a critical period in a child's life, Head Start sets our Nation's young people on the path to success. We know that investments in early childhood education boost graduation rates, increase earnings, and reduce violent crime. And 3- and 4-year-olds who attend high-quality preschool—including Head Start—are less likely to repeat a grade, less likely to need special education, and more likely to graduate from high school. This head start in life leaves a lasting impact on our students and fuels their curiosity, helping them to grow up with a passion for learning, a fair shot at good-paying jobs, and a more secure future.

This year also marks the 20th anniversary of Early Head Start, created to enhance the impact of Head Start by serving children from birth to age 3, as well as expectant mothers—ensuring all children receive the best care possible. This expansion has made a real difference for thousands of infants, toddlers, and their families. As President, I have endeavored to strengthen Head Start and build on its legacy. My Administration has expanded the program to reach tens of thousands of additional children and families in the depth of the economic recession. We have instituted reforms to raise the standards and focus on improving outcomes across Head Start programs and classrooms, so that children and families can rely on the highest quality of services. And we have launched new ways to build connections between Early Head Start and America's child care subsidy system to reach additional infants and toddlers in need of high-quality early care and education. We will continue to invest in Head Start and strive to expand its reach to additional children and families throughout America. Our children deserve nothing less.

Despite five decades of tremendous success, too many young people still grow up without access to a world-class education. Instead of receiving a head start in life, they start out a step behind. As a Nation, we must continue our work to ensure the promise of education is within reach for all our daughters and sons. That is why I have proposed a series of new investments that will establish a continuum of high-quality early learning for every child, beginning at birth and continuing to age 5. This year, I unveiled a plan that would make quality child care available to every middle-class and low-income family with young children under the age of 3. I have also called on the Congress to expand access to high-quality preschool and full-day kindergarten for every child in America. And I am calling on all Americans—including leaders of private and philanthropic organizations, communities, and governments at every level—to make their own commitments to our children, an effort that has already led to an investment of more than $1 billion to support our next generation of thinkers, dreamers, and doers.

The history of Head Start has taught us that if our Nation invests in the future of all our children, we can strengthen our economy, bolster our communities, and give every young person the chance to build a better life. As we mark the 50th anniversary of Head Start, let us rededicate ourselves to building an education system worthy of our daughters' and sons' enormous potential, and to providing a strong, healthy, and safe head start in life for all of America's children.

NOW, THEREFORE, I, BARACK OBAMA, President of the United States of America, by virtue of the authority vested in me by the Constitution and the laws of the United States, do hereby proclaim May 18, 2015, as the 50th Anniversary of Head Start. I call upon all Americans to observe this day with appropriate ceremonies and activities that recognize the importance of this vital program and support high-quality education for all Americans.

IN WITNESS WHEREOF, I have hereunto set my hand this eighteenth day of May, in the year of our Lord two thousand fifteen, and of the Independence of the United States of America the two hundred and thirty-ninth.

[FR Doc. 2015-12574

Filed 5-20-15; 11:15 am]

Billing code 3295-F5